ENVIRONMENTAL PROTECTION AGENCY

40 CFR Parts 281 and 282

[EPA-R04-UST-2023-0410; FRL-11400-01-R4]

Mississippi: Final Approval of State Underground Storage Tank Program Revisions, Codification, and Incorporation by Reference

AGENCY: Environmental Protection Agency (EPA).

ACTION: Proposed rule.

SUMMARY: The State of Mississippi (Mississippi or State) has applied to the Environmental Protection Agency (EPA) for final approval of revisions to its Underground Storage Tank Program (UST Program) under subtitle I of the Resource Conservation and Recovery Act (RCRA). Pursuant to RCRA, the EPA is proposing to approve revisions to the Mississippi UST Program. This action is based on the EPA's determination that the State's revisions satisfy all requirements for UST program approval. This action also proposes to codify Mississippi's revised UST Program and to incorporate by reference the State statutes and regulations that we have determined meet the requirements for approval.

DATES: Comments on this proposed rule must be received on or before February 20, 2024.

ADDRESSES: You may send comments, identified by Docket ID No. EPA-R04-UST-2023-0410, by either of the following methods:

• Federal eRulemaking Portal: https://www.regulations.gov (our preferred method). Follow the online instructions for submitting comments.

• Email: giri.upendra@epa.gov. Include the Docket ID No. EPA-R04-UST-2023-0410 in the subject line of the message.

Instructions: Submit your comments, identified by Docket ID No. EPA-R04-UST-2023-0410, via the Federal eRulemaking Portal at https://www.regulations.gov. Follow the online instructions for submitting comments. Once submitted, comments cannot be edited or removed from https://www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit: https://www.epa.gov/dockets/commenting-epa-dockets.

The EPA encourages electronic submittals and lists all publicly available docket materials electronically at https://www.regulations.gov. If you are unable to make electronic submittals or require alternative access to docket materials, please contact Upendra Giri, the contact listed in the FOR FURTHER INFORMATION CONTACT provision below. The index of the docket and all publicly available docket materials for this action are available for review at https://www.regulations.gov.

Please also contact Upendra Giri if you need assistance in a language other than English or if you are a person with disabilities who needs a reasonable accommodation at no cost to you. For further information on EPA Docket Center services, please visit us online at https://www.epa.gov/dockets.

FOR FURTHER INFORMATION CONTACT: Upendra Giri, RCRA Programs and Cleanup Branch, Land, Chemicals, and Redevelopment Division, U.S. Environmental Protection Agency, Region 4, Atlanta Federal Center, 61 Forsyth Street SW, Atlanta, Georgia 30303-8960; Phone number: (404) 562-8185, email address: giri.upendra@epa.gov. Please contact Upendra Giri by phone or email for further information.

SUPPLEMENTARY INFORMATION: For additional information, see the direct final rule published in the “Rules and Regulations” section of this Federal Register.

List of Subjects in 40 CFR Parts 281 and 282

Environmental protection, Administrative practice and procedure, Hazardous substances, Incorporation by reference, Indian country, Petroleum, Reporting and recordkeeping requirements, State program approval, Underground storage tanks.

Authority: This document is issued under the authority of sections 2002(a), 9004, and 7004(b) of the Solid Waste Disposal Act, as amended, 42 U.S.C. 6912, 6991c, 6991d, and 6991e.

Dated: December 21, 2023.
Jeaneanne M. Gettle,
Acting Regional Administrator, Region 4.

[FR Doc. 2024-00170 Filed 1-17-24; 8:45 am]

BILLING CODE 6560-50-P